DEPARTMENT OF HEALTH AND HUMAN SERVICES

Food and Drug Administration

21 CFR Part 101

Food Labeling

CFR Correction

In Title 21 of the Code of Federal Regulations, Parts 100 to 169, revised as of April 1, 2006, on page 18, in § 101.4, the introductory text of paragraph (h) is corrected by revising the phrase “or at the Office of the Federal Register, 800 N. Capitol St. NW., suite 700, Washington, DC.” to read: “or at the National Archives and Records Administration (NARA). For information on the availability of this material at NARA, call 202-741-6030, or go to: http://www.archives.gov/federal_register/code_of_federal_regulations/ibr_locations.html.”

[FR Doc. 07-55502 Filed 3-13-07; 8:45 am]

BILLING CODE 1505-01-D